DEPARTMENT OF THE TREASURY

Agency Information Collection Activities; Submission for OMB Review; Comment Request; Multiple Financial Crimes Enforcement Network (FinCEN) Information Collection Requests

AGENCY: Financial Crimes Enforcement Network, Department of the Treasury.

ACTION: Notice.

SUMMARY: The Department of the Treasury, as part of its continuing effort to reduce paperwork and respondent burden, invites the general public and other federal agencies to comment on proposed or continuing information collections, as required by the Paperwork Reduction Act of 1995.

DATES: Comments should be received on or before May 29, 2024 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Financial Crimes Enforcement Network (FinCEN)

1. Title: Reports Relating to Currency in Excess of $10,000 Received in a Trade or Business or Received as Bail by Court Clerks; Form 8300 (31 CFR 1010.330 and 31 CFR 1010.331).

OMB Control Number: 1506-0018.

Form Number: Form 8300.

Abstract: FinCEN is issuing this notice to renew the OMB control number for the Form 8300 and the regulations at 31 CFR 1010.330 and 31 CFR 1010.331.

Affected Public: Businesses or other for-profit institutions, and non-profit institutions.

Type of Review: Extension without change of a currently approved information collection.

Frequency: As required.

Estimated Number of Respondents: 35,000.

Estimated Total Annual Responses: 400,112.

Estimated Reporting and Recordkeeping Burden: 30 minutes.

Estimated Total Annual Reporting and Recordkeeping Burden: 200,056 hours.

2. Title: Administrative Rulings Regulations.

OMB Control Number: 1506-0050.

Abstract: FinCEN is issuing this notice to renew the OMB control number for the administrative ruling regulations.

Affected Public: Businesses or other for-profit institutions, non-profit institutions, and individuals.

Type of Review: Extension without change of a currently approved information collection.

Frequency: As required.

Estimated Number of Requests Annually: 44 requests.

Estimated Burden per Respondent/Request: 2 hours.

Estimated Recordkeeping Burden: 88 hours.

3. Title: Reports and Records of Certain Domestic Transactions.

OMB Control Number: 1506-0056.

Form Number: FinCEN will specify the form and method for reporting in the GTO.

Abstract: FinCEN is issuing this notice to renew the OMB control number for regulations permitting the issuance of orders, commonly referred to as GTOs, requiring reports and records of certain domestic transactions.

Affected Public: Businesses or other for-profit institutions, and non-profit institutions.

Type of Review: Renewal without change of a currently approved information collection.

Frequency: As required.

Estimated Number of Respondents: 709.

Estimated Total Annual Responses: 21,513.

Estimated Reporting and Recordkeeping Burden per Response: 45 minutes for reporting and 5 minutes for recordkeeping.

Estimated Total Annual Reporting and Recordkeeping Burden: 17,928 hours.

4. Title: Beneficial Ownership Requirements for Legal Entity Customers (31 CFR 1010.230).

OMB Control Number: 1506-0070.

Form Number: Appendix A to § 1010.230—Certification Regarding Beneficial Owners of Legal Entity Customers.

Abstract: FinCEN is issuing this notice to renew the OMB control number for the beneficial ownership requirements for legal entity customers regulations contained in 31 CFR 1010.230.

Affected Public: Business and other for-profit institutions and non-profit institutions.

Type of Review: Renewal without change of a currently approved information collection.

Frequency: As required.

Estimated Number of Respondents: 15,221.

Estimated Total Annual Responses: 5,723,096.

Estimated Recordkeeping Burden per Response: 80-minute average.

Estimated Total Annual Recordkeeping Burden: 7,615,574 hours.

Authority: 44 U.S.C. 3501 et seq.

Melody Braswell,
Treasury PRA Clearance Officer.

[FR Doc. 2024-09056 Filed 4-26-24; 8:45 am]

BILLING CODE 4810-02-P